DEPARTMENT OF LABOR

Employment and Training Administration

[TA-W-74,813A]

Eastman Kodak Company, IPS, Including On-Site Leased Workers From Adecco, Dayton, Ohio; Notice of Termination of Certification

This Notice terminates the Amended Certification Regarding Eligibility to Apply for Worker Adjustment Assistance issued by the Department of Labor (Department) on March 19, 2013 for all workers of Eastman Kodak Company, IPS, including on-site leased workers from Adecco, Dayton, Ohio (TA-W-74, 813A).

At the request of Eastman Kodak Company, the Department reviewed the certification applicable to workers of Eastman Kodak Company, IPS, Dayton, Ohio (TA-W-74, 813A). The review revealed that the amended certification was issued based on a misunderstanding of the article produced at the Dayton, Ohio facility and of the operations of Eastman Kodak Company.

On April 25, 2013, the Department issued a Notice of Initiation of Investigation to Terminate Certification of Eligibility applicable to workers and former workers of Eastman Kodak Company, IPS, including on-site leased workers from Adecco, Dayton, Ohio. The Department's Notice was published in the Federal Register on May 15, 2013. The Department has not received any responses to the Notice.

Information provided by Eastman Kodak Company show that the Dayton, Ohio facility operates independently from the Spencerport, New York facility. Based on this information, the Department determines that workers and former workers of Eastman Kodak Company, IPS, Dayton, Ohio (TA-W-74, 813A) were not affected by the shift in production to a foreign country which was the basis for the certification of workers and former workers at the firm's Spencerport, New York facility (TA-W-74, 813). Consequently, the certification issued under investigation TA-W-74, 813A has been terminated.

On March 26, 2013, the Department issued a Notice of Termination of Reconsideration Investigation applicable to workers and former workers of Eastman Kodak Company, IPS, Dayton, Ohio (TA-W-81, 387) because the workers are eligible to apply for Trade Adjustment Assistance under TA-W-74, 813A. Because the basis for the termination of the reconsideration investigation no longer exists, the Department will re-open the reconsideration investigation and issue a determination on reconsideration accordingly.

Signed in Washington, DC this 21st day of June, 2013.
Del Min Amy Chen,
Certifying Officer, Office of Trade Adjustment Assistance.

[FR Doc. 2013-16157 Filed 7-3-13; 8:45 am]

BILLING CODE 4510-FN-P